DEPARTMENT OF THE INTERIOR

Bureau of Land Management

[LLCAD0900, L51010000.LVRWB09B2380.FX0000]

Notice of Intent To Prepare an Environmental Impact Statement for the Proposed Stateline Solar Farm, San Bernardino County, CA and Possible Land Use Plan Amendments and Notice of Segregation of Public Lands

AGENCY: Bureau of Land Management, Interior.

ACTION: Notice of Intent.

SUMMARY: In compliance with the National Environmental Policy Act of 1969 (NEPA), as amended, and the Federal Land Policy and Management Act of 1976 (FLPMA), as amended, the Bureau of Land Management (BLM) Needles Field Office, Needles, California, intends to prepare an Environmental Impact Statement (EIS), which may include potential land use plan amendments to the California Desert Conservation Area (CDCA) Plan, as amended, and the Las Vegas Resource Management Plan (RMP), related to First Solar Development, Inc.'s (First Solar) right-of-way (ROW) application for the Stateline Solar Farm (Stateline), a 300-Megawatt (MW) photovoltaic (PV) Solar electricity generation project.

By this notice, the BLM is: (1) Announcing the beginning of the scoping process to solicit public comments and identify issues related to the EIS; and (2) Segregating the public lands located within the Stateline ROW application area from operation of the public land laws including the Mining Law, but not the Mineral Leasing or Material Sales Acts, for a period of 2 years from the date of publication of this notice.

DATES: This notice initiates: (1) The public scoping process for the EIS; and (2) The 2-year segregation period for the public lands within the Stateline ROW application area, effective as of August 4, 2011. The segregation will terminate as described below (see SUPPLEMENTARY INFORMATION section).

Comments on issues related to the EIS may be submitted in writing until September 6, 2011. The date(s) and location(s) of any scoping meetings will be announced at least 15 days in advance through local news media, newspapers, and the BLM Web site at: http://www.blm.gov/ca/st/en/fo/cdd.html. In order for comments to be fully considered in the Draft EIS, all comments must be received prior to the close of the scoping period or 15 days after the last public meeting, whichever is later. We will provide additional opportunities for public participation upon publication of the Draft EIS.

ADDRESSES: You may submit comments on issues and planning criteria related to the Stateline project by any of the following methods:

• Web site: http://www.blm.gov/ca/st/en/fo/cdd.html.

• E-mail: statelinesolar@blm.gov.

• Fax: (951) 697-5299.

• Mail: ATTN: Jeffery Childers, Project Manager, BLM California Desert District Office, 22835 Calle San Juan de Los Lagos, Moreno Valley, California 92553-9046.

Documents pertinent to this proposal may be examined at the California Desert District office (see address above).

FOR FURTHER INFORMATION CONTACT: And/or to have your name added to our mailing list, contact Jeffery Childers; telephone 951-697-5308; address BLM California Desert District Office, 22835 Calle San Juan de Los Lagos, Moreno Valley, California 92553-9046; e-mail at jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: First Solar has requested a ROW authorization to construct, operate, maintain, and decommission the 300-MW PV Stateline solar energy project. The BLM is responding to First Solar's ROW application as required by FLPMA. The Stateline project would be located on BLM-administered lands and would include access roads, PV arrays, an electrical substation, meteorological station, monitoring and maintenance facility, and a 2.3 mile generation tie-line on approximately 2,000 acres. Potential alternatives to the proposed action may include reduced acreage, reduced MW, and/or modified footprint alternatives. The project location is in San Bernardino County approximately 2 miles south of the Nevada-California border and 0.5 miles west of Interstate 15. The purpose of the public scoping process is to determine relevant issues that will influence the scope of the environmental analysis, including alternatives, and guide the process for developing the EIS. At present, the BLM has identified the following preliminary issues: special status species, cultural resources, route designation, social and economic impacts, traffic, water, and visual resource resources.

Pursuant to the BLM's CDCA Plan, sites associated with power generation or transmission not identified in the CDCA Plan will be considered through the plan amendment process to determine the suitability of the site for solar development. The BLM may also consider additional potential plan amendments to the CDCA Plan and the Las Vegas RMP that might arise based on its assessment of the potential cumulative effects of other projects in the larger Ivanpah Valley watershed in California and Nevada to a range of resources, including, without limitation, biological, physical, and cultural resources. By this notice, the BLM is complying with requirements in 43 CFR 1610.2(c) to notify the public of potential amendments to the CDCA Plan and Las Vegas RMP, predicated on the findings of the EIS. If land use plan amendments are necessary, the BLM will integrate the land use planning process with the NEPA process for the Stateline project.

The plan amendments will be completed in compliance with FLPMA, NEPA, and all other relevant Federal law, executive orders, and BLM policies. Any new plan decisions will complement existing plan decisions and recognize valid existing rights.

The BLM will use and coordinate the NEPA commenting process to satisfy the public involvement process pursuant to Section 106 of the National Historic Preservation Act (NHPA) (16 U.S.C. 470f) as provided for in 36 CFR 800.2(d)(3). Native American tribal consultations will be conducted in accordance with policy, and tribal concerns will be given due consideration, including impacts on Indian trust assets. Federal, State, and local agencies, along with other stakeholders that may be interested or affected by the BLM's decision on this project, are invited to participate in the scoping process and, if eligible, may request or be requested by the BLM to participate as a cooperating agency. In connection with its processing of First Solar's ROW application, the BLM is also segregating, under the authority contained in 43 CFR 2091.3-1(e) and 43 CFR 2804.25(e), subject to valid existing rights, the public lands within the Stateline application area from the operation of the public land laws including the Mining Law, but not the Mineral Leasing or the Material Sales Acts, for a period of 2 years from the date of publication of this notice. The public lands contained within this segregation total approximately 2,000 acres and are described as follows:

San Bernardino Meridian,

Township 16 North, Range 14 East,

Sec. 1, lots 1 and 2, W½ SW¼;

Sec. 2, lots 1 and 2, SE¼;

Sec. 3, lot 1;

Sec. 11, NE¼ NE¼ , NW¼ NE¼;

Sec. 12, NW¼ NW¼.

Township 17 North, Range 14 East,

Sec. 13, W½ , SE¼;

Sec. 14, All;

Sec. 15, All;

Sec. 22, All excluding the solar ROW CACA 48668;

Sec. 23, All;

Sec. 24, N½, SW¼, NW¼ NE¼ SE¼, W½ SE¼;

Sec. 25, All;

Sec. 26, All;

Sec. 34, SE¼ SE¼;

Sec. 35, All.

The BLM has determined that this segregation is necessary to ensure the orderly administration of the public lands by maintaining the status quo while it processes the First Solar's ROW authorization request for the above described lands.

The segregation period will terminate and the lands will automatically reopen to appropriation under the public land laws, including the Mining Law, if one of the following events occurs: (1) The BLM issues a decision granting, granting with modifications, or denying First Solar's ROW authorization request; (2) Publication of a Federal Register notice of termination of this segregation; or (3) No further administrative action occurs at the end of this segregation. Any segregation made under this authority is effective only for a period of up to 2 years.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7, 43 CFR 1610.2, 2091.3-1(e), and 2804.25(e)

Thomas Pogacnik,
Deputy State Director, Natural Resources.

[FR Doc. 2011-19781 Filed 8-3-11; 8:45 am]

BILLING CODE 4310-40-P